Proclamation 10519 of January 31, 2023

National Teen Dating Violence Awareness and Prevention Month, 2023

By the President of the United States of America

A Proclamation

Across America, young people are impacted by abusive relationships, suffering in silence as they are threatened with or subjected to physical violence, sexual violence, psychological aggression, or stalking from a current or former intimate partner. During National Teen Dating Violence Awareness and Prevention Month, we bring this scourge out of the shadows, recommit to promoting healthy relationships, and join together with a clear message to survivors: You are not alone. Support is close by, and justice is within reach.

Each year, around 12 percent of American high schoolers experience physical or sexual violence at the hands of an intimate partner. Young women, transgender teens, and gender nonconforming youth are disproportionately affected. Dating violence can also occur on social media, online, and through other electronic communication in the form of cyberstalking, non-consensual distribution of intimate images, and other technology-facilitated harms. This trauma not only affects survivors' health, safety, and aspirations as teenagers—it can also follow them into adulthood and increase the risk of violence in future relationships.

When we teach teens about healthy, nonviolent relationships, we support their development and create safer, healthier communities for everyone. That is why my Administration is advancing efforts by the Centers for Disease Control and Prevention to provide training for educators, families, and community members to teach young people how to form healthy relationships and leave abusive ones. These tools can be found at VetoViolence.CDC.gov. My Task Force to Address Online Harassment and Abuse is also committed to addressing ways that technology can be used to cause harm, including as a form of dating violence among young people. Additionally, in 2022 I worked with the Congress to reauthorize and strengthen the Violence Against Women Act, including enhancing grant programs and increasing funding for non-profit organizations, Tribes, and local governments that are working to reduce and address teen dating violence.

By recognizing the signs of dating and domestic violence, setting positive examples of healthy relationships that lift up instead of tear down, and making clear that abuses of power are never acceptable, we can build a culture where respect is the norm, dignity is the rule, and safety is the expectation—both online and offline. We can measure up to the standards of equality, opportunity, and justice that define our Nation at its best.

If you or someone you know is involved in an abusive relationship of any kind, immediate and confidential support is available through the National Domestic Violence Hotline's project focused on supporting young people by visiting loveisrespect.org, calling 1-866-331-9474 (TTY: 1-800-787-3224), or texting “LOVEIS” to 22522.

NOW, THEREFORE, I, JOSEPH R. BIDEN JR., President of the United States of America, by virtue of the authority vested in me by the Constitution and the laws of the United States, do hereby proclaim February 2023 as National Teen Dating Violence Awareness and Prevention Month. I call upon everyone to educate themselves and others about teen dating violence so that together we can stop it.

IN WITNESS WHEREOF, I have hereunto set my hand this thirty-first day of January, in the year of our Lord two thousand twenty-three, and of the Independence of the United States of America the two hundred and forty-seventh.

[FR Doc. 2023-02432

Filed 2-2-23; 8:45 am]

Billing code 3395-F3-P